DEPARTMENT OF ENERGY

Federal Energy Regulatory Commission

[Docket No. AD21-14-000]

Resource Adequacy Developments in the Western Interconnection; Notice of Technical Conference

Take notice that the Federal Energy Regulatory Commission (Commission) will convene a Commissioner-led technical conference in the above-referenced proceeding on Wednesday, June 23, 2021, and Thursday, June 24, 2021, from approximately 12 p.m. to 5 p.m. Eastern time on each day. The conference will be held electronically over WebEx and broadcast on the Commission's website.

The purpose of this conference is to discuss resource adequacy developments in the Western Interconnection. The Commission seeks to engage varied regional perspectives to discuss challenges, trends, and possible ways to continue to ensure resource adequacy in the Western Interconnection.

The conference will be open for the public to attend, and there is no fee for attendance. Supplemental notices will be issued prior to the conference with further details regarding the agenda and times, participant registration, and the format of the conference. Information on this technical conference will also be posted on the Calendar of Events on the Commission's website, www.ferc.gov, prior to the event.

The conference will be transcribed. Transcripts will be available for a fee from Ace Reporting, (202) 347-3700.

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this technical conference, please contact Navin Shekar at navin.shekar@ferc.gov or (202) 502-6297. For information related to logistics, please contact Sarah McKinley at sarah.mckinley@ferc.gov or (202) 502-8368.

Dated: March 16, 2021.
Kimberly D. Bose,
Secretary.

[FR Doc. 2021-05864 Filed 3-19-21; 8:45 am]

BILLING CODE 6717-01-P